DEPARTMENT OF AGRICULTURE

Forest Service

Information Collection; Request for Comments; Health Screening Questionnaire

AGENCY: Forest Service, USDA.

ACTION: Notice.

SUMMARY: In accordance with the Paperwork Reduction Act of 1995, the Forest Service announces its intention to establish a new information collection. The collected information will enable the Forest Service to evaluate current employees, who are seeking certification or recertification for firefighter positions, as well as individuals, who are applying for firefighter positions, to determine if they meet the qualifications to safely perform assigned duties as a Forest Service firefighter.

DATES: Comments must be received in writing on or before May 29, 2001.

ADDRESSES: All comments should be addressed to Wini Sorensen, National Safety Officer, National Interagency Fire Center, Forest Service, USDA, 3833 South Development Avenue, Boise, ID 83705-5354.

Comments also may be submitted via facsimile to (208) 387-5398 or by email to wsorensen@fs.fed.us.

The public may inspect comments received at the National Safety Office, National Interagency Fire Center, Forest Service, USDA, 3833 South Development Avenue, Boise, Idaho, from 8 a.m. to 4:30 p.m. Monday thru Friday MST.

FOR FURTHER INFORMATION CONTACT: Wini Sorensen, National Safety Officer, at (208) 387-5102.

SUPPLEMENTARY INFORMATION:

Background

The Protection Act of 1922 (16 U.S.C. 594) authorizes the Forest Service to fight fires on National Forest System lands.

Individuals must complete the Health Screening Questionnaire (HSQ) when seeking employment as a new firefighter with the Forest Service or recertification as a Forest Service firefighter. Forest Service employees will evaluate the collected information to determine if the individual seeking certification or recertification may begin a physical fitness program to train for the arduous level “Pack Test” of the Work Capacity Test. If Forest Service employees determine, based on the collected information, that an individual may not be physically able to train for the arduous level of the Work Capacity Test, the agency will require the individual to undergo a physical examination from a physician.

Description of Information Collection

The following describes the information collection to be established:

Title: Health Screening Questionnaire (HSQ).

OMB Number: New.

Expiration Date of Approval: New.

Type of Request: This is a new information collection that has not yet received approval from the Office of Management and Budget.

Abstract: Forest Service personnel at Forest Service Ranger Districts, Forest Service Supervisors' Offices, Forest Service Research Stations, or the Area Office will evaluate the collected data to ensure that individuals seeking recertification as a Forest Service firefighter, as well as those applying to become certified, will meet the physical and health requirements of the position.

Forest Service employees will collect information on the current general health of the individual, such as height, weight, and current level of physical activity; previous serious health conditions, such as life threatening injury, diseases, or heart conditions; and special current conditions, such as diabetes or allergies. Individuals determined to be in sufficient health will be asked to complete the “Work Capacity Tests,” which would include testing the level of the individual's aerobic fitness, level of muscular strength, and muscle endurance.

The information provided by an individual will be placed in the individual's Official Employee Medical File. As required under The Privacy Act (5 USC 552a), the information will not be available to any other agency or individual.

Data gathered in this information collection is not available from other sources.

Estimate of Annual Burden: 5 minutes.

Type of Respondents: Current employees requesting certification or recertification as a firefighter (Red-Card) and applicants seeking Forest Service firefighter positions.

Estimated Annual Number of Respondents: 15,000.

Estimated Annual Number of Responses per Respondent: 1.

Estimated Total Annual Burden on Respondents: 1,250 hours.

Comment Is Invited

The agency invites comments on the following: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments received in response to this notice, including names and addresses when provided, will become a matter of public record. Comments will be summarized and included in the request for Office of Management and Budget Approval.

Dated: March 21, 2001.
Michael T. Rains,
Deputy Chief, State and Private Forestry.

[FR Doc. 01-7724 Filed 3-28-01; 8:45 am]

BILLING CODE 3410-11-P